SMALL BUSINESS ADMINISTRATION

SBIC License Issuance

AGENCY: U.S. Small Business Administration.

ACTION: Notice of Small Business Investment Company (SBIC) Licenses.

Pursuant to the authority granted to the United States Small Business Administration under section 301(c) of the Small Business Investment Act of 1958, as amended, to grant Small Business Investment Company licenses under the Small Business Investment Company Program, this notice satisfies the requirement effective August 17, 2023 under 13 CFR 107.501(a) to publish in the Federal Register the names of SBICs with date of licensure and Total Intended Leverage Commitments. The following SBICs received SBIC licenses as of the date indicated below:

SBIC fund name | Date of licensure | Leverage tiers ¹
Avante Capital Partners SIC IV, L.P. | 1/14/2025 | 2.00x
LNC Partners III—SBIC, L.P. | 2/6/2025 | 2.00x
Vocap Partners IV SBIC, L.P. | 2/26/2025 | 1.00x
Balance Point Capital Partners VII, L.P. | 2/26/2025 | 2.00x
Tecum Capital Partners IV, L.P. | 2/26/2025 | 2.00x
Southfield Mezzanine Capital III, L.P. | 2/26/2025 | 2.00x
¹ Maximum amount of Leverage expressed as a multiple of Leverageable Capital pursuant to 13 CFR 107.1150.

Paul Van Eyl,
Director of Policy, Office of Investment and Innovation, U.S. Small Business Administration.

[FR Doc. 2025-05405 Filed 3-27-25; 8:45 am]

BILLING CODE 8026-09-P